FEDERAL COMMUNICATIONS COMMISSION

47 CFR Part 63

[CC Docket No. 01-150; FCC 02-78]

Implementation of Further Streamlining Measures for Domestic Section 214 Authorizations

AGENCY: Federal Communications Commission.

ACTION: Final rule; announcement of effective date.

SUMMARY: This document announces the effective date of the rules to govern and streamline review of applications for section 214 of the Communications Act of 1934, as amended (the Act), to transfer control of domestic transmission lines. These rules add predictability, efficiency, and transparency to the Commission's domestic section 214 transfer of control review process and greatly improve the Commission's current domestic section 214 transfer of control procedures. The Report and Order in CC Docket No. 01-150 was published in the Federal Register on April 17, 2002 (67 FR 18827). Because the new procedures entail new information collection requirements, they could not become effective until the Commission received approval from the Office of Management and Budget (OMB).

DATES: Sections 63.01, 63.03, and 63.04, published at 67 FR 18827, April 17, 2002, were approved by the OMB on June 4, 2002, and became effective on June 14, 2002.

FOR FURTHER INFORMATION CONTACT: Aaron Goldberger, Attorney-Advisor, Competition Policy Division, Wireline Competition Bureau, at (202) 418-1580, or via the Internet at agoldber@fcc.gov

SUPPLEMENTARY INFORMATION: On March 21, 2002, the Commission released a Report and Order in CC Docket No. 01-150 (Order), April 17, 2002, (67 FR 18827) adopting rules to govern and streamline review of applications for section 214 of the Act. Specifically, the Order establishes a thirty day streamlined review process that will presumptively apply to domestic section 214 transfer applications meeting specified criteria, and that will apply on a case-by-case basis to all other domestic section 214 applications. The Order also sets forth the information that applicants must provide in their domestic section 214 applications, whether filed separately or in combination with an international section 214 application. Moreover, the Order defines pro forma transactions in a manner that is consistent with the definition used by the Commission in other contexts, and harmonizes the treatment of asset acquisitions with the treatment of acquisitions of corporate control. A summary of the Order was published in the Federal Register. See 67 FR 18827, April 17, 2002. The new rules entail new information collection requirements that required OMB approval. On June 4, 2002, OMB approved the information collection requirements. See OMB No. 3060-0989. Sections 63.01, 63.03 and 63.04, published at 67 FR 18827, April 17, 2002, takes effect on June 14, 2002. This publication satisfies the statement in the April 17, 2000 Federal Register notice that the Commission would publish a document in the Federal Register announcing the effective date of the rules.

Federal Communications Commission.
Marlene H. Dortch,
Secretary.

[FR Doc. 02-15084 Filed 6-14-02; 8:45 am]

BILLING CODE 6712-01-P